FEDERAL COMMUNICATIONS COMMISSION

Meetings; Sunshine Act

May 6, 2009.

FCC To Hold Open Commission Meeting, Wednesday, May 13, 2009

The Federal Communications Commission will hold an Open Meeting on the subjects listed below on Wednesday, May 13, 2009, which is scheduled to commence at 10 a.m. in Room TW-C305, at 445 12th Street, SW., Washington, DC.

* The summaries listed in this notice are intended for the use of the public attending open Commission meetings. Information not summarized may also be considered at such meetings. Consequently these summaries should not be interpreted to limit the Commission's authority to consider any relevant information.

Item No. | Bureau | Subject
1 | Office of Managing Director | Title: Assessment and Collection of Regulatory Fees for Fiscal Year 2009 (MD Docket No. 08-65).
|  | Summary: The Commission will consider a Notice of Proposed Rulemaking and Order that seeks comment on the collection of regulatory fees for Fiscal Year 2009 and proposes adjustments to the existing regulatory fee schedule contained in Section 9 of the Communications Act.
2 | Wireline Competition | Title: IP-Enabled Services (WC Docket No. 04-36).
|  | Summary: The Commission will consider a Report and Order concerning the requirements of interconnected VoIP providers when discontinuing service.
3 | Wireline Competition | Title: Local Number Portability Porting Interval and Validation Requirements (WC Docket No. 07-244); Telephone Number Portability (CC Docket No. 95-116).
|  | Summary: The Commission will consider a Report and Order and Further Notice of Proposed Rulemaking concerning the interval for porting a customer's telephone number in response to wireline-to-wireline and intermodal port requests.

The meeting site is fully accessible to people using wheelchairs or other mobility aids. Sign language interpreters, open captioning, and assistive listening devices will be provided on site. Other reasonable accommodations for people with disabilities are available upon request. Include a description of the accommodation you will need. Also include a way we can contact you if we need more information. Last minute requests will be accepted, but may be impossible to fill. Send an e-mail to fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
William F. Caton,
Deputy Secretary.

[FR Doc. E9-11065 Filed 5-7-09; 4:15 pm]

BILLING CODE 6712-01-P